DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's (RHS's) intention to request an extension for a currently approved information collection in support of 7 CFR part 3560, Direct Multi-Family Housing Loans and Grants.

DATES: Comments on this notice must be received by February 22, 2011 to be assured of consideration.

FOR FURTHER INFORMATION CONTACT: Janet Stouder, Deputy Director, Multi-Family Housing Portfolio Management Division, Rural Housing Service, U.S. Department of Agriculture, Room 1245, South Building, Stop 0782, 1400 Independence Avenue, SW., Washington, DC 20250-0782, telephone (202) 720-9728.

SUPPLEMENTARY INFORMATION: Title: 7 CFR 3560 Direct Multi-Family Housing Loans and Grants.

OMB Number: 0575-0189.

Expiration Date of Approval: March 31, 2011.

Type of Request: Extension of a currently approved information collection.

Abstract: The information collected is used by the Agency to manage, plan, evaluate, and account for Government resources. The reports are required to ensure the proper and judicious use of public funds.

Estimate of Burden: Public reporting burden for this collection of information is estimated to average 48 minutes per response.

Respondents: Individuals, corporations, associations, trusts, Indian tribes, public or private non profit organizations, which may include faith-based, consumer cooperative, or partnership.

Estimated Number of Respondents: 500,000.

Estimated Number of Responses per Respondent: 4.54.

Estimated Number of Responses: 2,270,328.

Estimated Total Annual Burden on Respondents: 1,091,785 hours.

Copies of this information collection can be obtained from Jeanne Jacobs, Regulations and Paperwork Management Branch, at (202) 692-0040.

Comments:

Comments are invited on: (a) Whether the proposed collection of information is necessary for the proper performance of the functions of RHS, including whether the information will have practical utility; (b) the accuracy of RHS estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Jeanne Jacobs, Regulations and Paperwork Management Branch, U.S. Department of Agriculture, Rural Development, STOP 0742, 1400 Independence Ave., SW., Washington, DC 20250. All responses to this notice will be summarized and included in the request for OMB approval. All comments will also become a matter of public record.

Dated: December 15, 2010.
Tammye Trevino,
Administrator, Rural Housing Service.

[FR Doc. 2010-32182 Filed 12-22-10; 8:45 am]

BILLING CODE 3410-XV-P